DEPARTMENT OF ENERGY

FEDERAL ENERGY REGULATORY COMMISSION

[Docket No. IC23-14-000]

Commission Information Collection Activities (FERC-717); Comment Request; Extension

Correction

In Notice Document 2023-28130, appearing on pages 88383 to 88386 in the issue of Wednesday, December 21, 2023, make the following correction:

On page 88386, in the third column, in the DATES section, the date “[INSERT DATE 30 DAYS AFTER DATE OF PUBLICATION IN THE FEDERAL REGISTER” should read “January 22, 2024”.

[FR Doc. C1-2023-28130 Filed 1-5-24; 8:45 am]

BILLING CODE 0099-10-P